DEPARTMENT OF HOMELAND SECURITY

Coast Guard

[CGD08-05-037]

Implementation of Sector Lower Mississippi River

AGENCY: Coast Guard, DHS.

ACTION: Notice of organizational change.

SUMMARY: The Coast Guard announces the stand-up of Sector Lower Mississippi River. The Sector Lower Mississippi River Commanding Officer has the authority, responsibility and missions of the prior Group Commander, Captain of the Port (COTP), Officer in Charge, Marine Inspection (OCMI), Federal On Scene Coordinator (FOSC), Federal Maritime Security Coordinator (FMSC), and Search and Rescue Mission Coordinator (SMC) Lower Mississippi River. The Coast Guard has established a continuity of operations whereby all previous practices and procedures will remain in effect until superseded by an authorized Coast Guard official and/or document.

DATES: This change is effective July 8, 2005.

ADDRESSES: Documents indicated in this preamble as being available in the docket are part of docket CGD08-05-037 and are available for inspection or copying at Commander (rpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

Sector Lower Mississippi River is located at #2 Auction Avenue, Memphis, Tennessee 38105 and contains a single Command Center. Sector Lower Mississippi River is composed of a Response Department, Prevention Department, and Logistics Department. Effective July 8, 2005, Group Lower Mississippi River and Marine Safety Office Memphis no longer exist as organizational entities. Sector Lower Mississippi River is responsible for all Coast Guard Missions in the following zone: “The boundary of Sector Lower Mississippi River is comprised of Oklahoma; all of Arkansas except for Boone, Marion, Baxter, and Fulton Counties; in Tennessee: Shelby, Fayette, Hardeman, Tipton, Haywood, Lauderdale, Crockett, and Dyer Counties, and all of Lake County, with the exception of the portion of the Mississippi River which borders that part of New Madrid County, Missouri, lying east of 89° 30′W longitude (including the area known as Winchester Towhead); in Missouri: Pemiscot County, and those portions of Dunklin and New Madrid Counties south of a line drawn eastward from the southeast corner of Butler County to the westernmost point of intersection of the Missouri, Kentucky, and Tennessee borders at the lower Mississippi River (Mile 882.7). In Mississippi: DeSoto, Marshall, Benton, Tippah, Tunica, Tate, Coahoma, Quitman, Panola, Lafayette, Union, Pontotoc, Lee, Bolivar, Washington, Sunflower, Tallahatchie, Leflore, Yalobusha, Grenada, Calhoun and Chickasaw Counties.”

Sector Lower Mississippi River's zone will be modified in the future upon the stand-up of adjoining sectors. Notice will be published in the Federal Register.

The Sector Lower Mississippi River Commander is vested with all the rights, responsibilities, duties, and authority of a Group Commander and Commanding Officer Marine Safety Office, as provided for in Coast Guard regulations, and is the successor in command to the Commanding Officers of Group Lower Mississippi River and Marine Safety Office Memphis. The Sector Lower Mississippi River Commander is designated: (a) Captain of the Port (COTP) for the Lower Mississippi River COTP zone; (b) Federal Maritime Security Coordinator (FMSC); (c) Federal On Scene Coordinator (FOSC) for the Lower Mississippi River COTP zone, consistent with the National Contingency Plan; (d) Officer in Charge of Marine Inspection (OCMI) for the Lower Mississippi River Marine Inspection Zone and, (e) Search and Rescue Mission Coordinator (SMC). The Deputy Sector Commander is designated alternate COTP, FMSC, FOSC, SMC and Acting OCMI. A continuity of operations order has been issued ensuring that all previous Group Lower Mississippi River and Marine Safety Office Memphis practices and procedures will remain in effect until superseded by Commander, Sector Lower Mississippi River. This continuity of operations order addresses existing COTP regulations, orders, directives and policies.

The following information is a list of updated command titles, addresses and points of contact to facilitate requests from the public and assist with entry into security or safety zones:

Name: Sector Lower Mississippi River.

Address: Commander, U.S. Coast Guard Sector Lower Mississippi River, #2 Auction Avenue, Memphis, Tennessee 38105.

Contact: General Number, (901) 544-3912, Sector Commander: Commander David Stalfort; Deputy Sector Commander: Lieutenant Commander Jerry Davenport.

Dated: June 13, 2005.
R.F. Duncan,
Rear Admiral, U.S. Coast Guard, Commander, Eighth Coast Guard District.

[FR Doc. 05-13130 Filed 7-1-05; 8:45 am]

BILLING CODE 4910-15-P